DEPARTMENT OF TRANSPORTATION

Federal Motor Carrier Safety Administration

49 CFR Parts 392 and 393

[Docket No. FMCSA-2025-0110]

RIN 2126-AC85

Parts and Accessories Necessary for Safe Operation; Liquid-Burning Flares; Correction

AGENCY: Federal Motor Carrier Safety Administration (FMCSA), Department of Transportation (DOT).

ACTION: Notice of proposed rulemaking (NPRM); correction.

SUMMARY: In an NPRM published in the Federal Register on May 30, 2025, FMCSA proposed to remove references to liquid-burning flares from the warning device requirements in the Federal Motor Carrier Safety Regulations. This proposed revision would remove outdated language referring to warning devices that FMCSA believes are no longer used. The NPRM contained an error in the docket number, errors in the ADDRESSES section, and errors in the SUPPLEMENTARY INFORMATION section.

DATES: This correction is effective June 5, 2025. Comments on the NPRM must still be received on or before July 29, 2025.

FOR FURTHER INFORMATION CONTACT: Mr. David Sutula, Chief, Vehicle and Roadside Operations Division, FMCSA, 1200 New Jersey Avenue SE, Washington, DC 20590-0001; (202) 366-9209; David.Sutula@dot.gov. If you have questions on viewing or submitting material to the docket, call Dockets Operations at (202) 366-9826.

SUPPLEMENTARY INFORMATION: In FR Doc. 2025-09710, appearing on page 22919 in the Federal Register of May 30, 2025, the following corrections are made:

1. On page 22919, in the second column:

a. Remove the docket number which reads “FMCSA-2025-0111” and add in its place “FMCSA-2025-0110”; and

b. Under ADDRESSES, remove “FMCSA-2025-0111” and add in its place “FMCSA-2025-0110” in both places it appears.

2. On page 22919, in the third column, under Submitting Comments, remove “FMCSA-2025-0111” and add in its place “FMCSA-2025-0110”.

3. On page 22920, in the first column, remove “FMCSA-2025-0111” and add in its place “FMCSA-2025-0110” in both places it appears.

Issued under authority delegated in 49 CFR 1.87.

Larry W. Minor,
Associate Administrator for Policy.

[FR Doc. 2025-10244 Filed 6-4-25; 8:45 am]

BILLING CODE 4910-EX-P